DEPARTMENT OF HOMELAND SECURITY

Coast Guard

33 CFR Part 100

[CGD05-05-046]

RIN 1625-AA08

Special Local Regulations for Marine Events; Severn River, College Creek, Weems Creek, and Carr Creek, Annapolis, MD

AGENCY: Coast Guard, DHS.

ACTION: Notice of enforcement of regulation.

SUMMARY: The Coast Guard is implementing the special local regulations for the U.S. Naval Academy Blue Angels Air show to be held May 24 and 25, 2005, over the waters of the Severn River at Annapolis, Maryland. These special local regulations are necessary to control vessel traffic due to the confined nature of the waterway and expected vessel congestion during the event. The effect will be to restrict general navigation in the regulated area for the safety of event participants, spectators and vessels transiting the event area.

DATES: 33 CFR 100.518 will be enforced from 10:30 a.m. to 4 p.m. on May 24 and 25, 2005.

FOR FURTHER INFORMATION CONTACT: Ronald Houck, Marine Events Coordinator, Commander, Coast Guard Sector Baltimore, (410) 576-2674.

SUPPLEMENTARY INFORMATION: The U.S. Naval Academy will sponsor the Blue Angels Air show over the waters of the Severn River at Annapolis, Maryland. The events will consist of low flying, high performance aircraft performing precision maneuvers and aerial stunts. A fleet of spectator vessels is expected to gather near the event site to view the Air show. In order to ensure the safety of participants, spectators and transiting vessels, 33 CFR 100.518 will be enforced for the duration of the event. Under provisions of 33 CFR 100.518, from 10:30 a.m. to 4 p.m. on May 24 and 25, 2005 vessels may not enter the regulated area without permission from the Coast Guard Patrol Commander. Spectator vessels may anchor outside the regulated area but may not block a navigable channel. Because these restrictions will be in effect for a limited period, they should not result in a significant disruption of maritime traffic.

In addition to this notice, the maritime community will be provided extensive advance notification via the Local Notice to Mariners, and marine information broadcasts so mariners can adjust their plans accordingly.

Dated: May 3, 2005.
Lawrence J. Bowling,
Captain, U.S. Coast Guard, Commander, Fifth Coast Guard District, Acting.

[FR Doc. 05-9636 Filed 5-13-05; 8:45 am]

BILLING CODE 4910-15-P